DEPARTMENT OF EDUCATION

Office of Postsecondary Education; Title IV, Part I, Section 499 of the Higher Education Act of 1965, as Amended—Competitive Loan Auction Pilot Program

AGENCY: Office of Postsecondary Education, U.S. Department of Education.

ACTION: Notice of cancellation of the auction under the Competitive Loan Auction Pilot Program for the right to originate PLUS loans to new parent borrowers under the Federal Family Education Loan (FFEL) Program.

SUMMARY: Through this notice, the Secretary of Education (the Secretary) announces the cancellation of the auction (Auction) that was scheduled to occur on April 15, 2009 under the Competitive Loan Auction Pilot Program (Auction Program) for the rights to originate PLUS loans to parent borrowers under the FFEL Program.

FOR FURTHER INFORMATION CONTACT: For information about the Auction Program go to http://www.ed.gov/ope/plus-auction or contact: Donald Conner, U.S. Department of Education, 1990 K Street, NW., room 8030, Washington, DC 20006. Telephone (202) 502-7818, or by fax to (202) 502-7873. You may also e-mail your questions about the Auction Program to: donald.conner@ed.gov.

If you use a telecommunications device for the deaf (TDD), call the Federal Relay Service (FRS), toll free, at 1-800-877-8339.

Individuals with disabilities can obtain this document in an accessible format (e.g., braille, large print, audiotape, or computer diskette) by contacting the program contact person listed in this section.

SUPPLEMENTARY INFORMATION: In the Federal Register of March 3, 2009, the Secretary announced his intention to conduct, and invited eligible FFEL lenders to participate in, an Auction for the rights to originate PLUS loans to new parent borrowers under the FFEL Program (74 FR 9232). Through the Auction, the Secretary would award the rights to originate PLUS loans to new parent borrowers under the Federal PLUS Program authorized by section 428B of Title IV of the Higher Education Act of 1965, as amended (HEA), for loan periods beginning on or after July 1, 2009 and ending on or before June 30, 2011.

The period for the submission by lenders of pre-qualification requests for the Auction closed on April 1, 2009. In order for the Auction to have been considered successful for any State, at least two lenders must have submitted pre-qualification requests for that State. However, the Department failed to receive two requests for pre-qualification for any State, and for the vast majority of States the Department received no requests. For this reason, the Secretary has determined that the purpose of the Competitive Loan Auction Pilot Program has been frustrated, and he is cancelling the Auction that was scheduled to occur on April 15, 2009. During the 2009-10 and 2010-11 award years, Parent PLUS loans under the FFEL Program may be made by any eligible lender selected by the parent borrower.

Electronic Access to This Document: You can view this document, as well as all other documents of this Department published in the Federal Register, in text or Adobe Portable Document Format (PDF), on the Internet at the following site: http://www.ed.gov/news/fedregister.

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions of the Assistant Secretary for Postsecondary Education.

Dated: April 24, 2009.
Daniel T. Madzelan,
Director, Forecasting and Policy Analysis.

[FR Doc. E9-9884 Filed 4-28-09; 8:45 am]

BILLING CODE 4000-01-P